DEPARTMENT OF JUSTICE

Notice of Lodging of Consent Decree Under the Clean Air Act

Notice is hereby given that on July 21, 2006 a proposed consent decree in United States v. American Iron Oxide Company and Magnetics International, Inc., Civil Action No. 2: 06-cv-00251-WCL-APR was lodged with the United States District Court for the Northern District of Indiana.

In this action the United States sought civil penalties and injunctive relief for alleged violations of Section 113(b) of the Clean Air Act, 42 U.S.C. 7413(b), more specifically the National Emission Standards for Hazardous Air Pollutants (NESHAP) for steel pickling—HC1, at three steel pickling facilities: American Iron Oxide's facilities in Portage, Indiana, and Grandview, Indiana, and Magnetics International, Inc.'s facility in Burns Harbor, Indiana. The proposed Consent Decree requires the Defendants to: (a) Pay a total civil penalty of $100,000; (b) undertake two community-based Supplemental Environmental Projects; (c) make process and equipment modifications at the three facilities; (d) conduct stack tests to demonstrate compliance with the NESHAP at the Portage and Magnetic Facilities, with AMROX using a stack test to determine if the Rockport Facility is subject to the NESHAP; and (e) comply with all of the requirements of the NESHAP at the Portage and Magnetics Facilities, as well as at the Rockport Facility if that plant is determined to be subject to the NESHAP.

The Department of Justice will receive for a period of thirty (30) days from the date of this publication comments relating to the proposed Consent Decree. Comments should be addressed to the Assistant Attorney General, Environment and Natural Resources Division, P.O. Box 7611, US Department of Justice, Washington, DC 20044-7611, and should refer to United States v. American Iron Oxide Company, et al., D.J. Ref. 90-5-2-1-07939.

The proposed Consent Decree may be examined at the Office of the United States Attorney for the Northern District of Indiana, 5400 Federal Plaza, Suite 1500, Hammond, Indiana 46320 (contact Asst. U.S. Attorney Wayne Ault (219-937-5500), and at U.S. EPA Region 5, 7th Floor Records Center, 77 West Jackson Blvd., Chicago, Illinois 60604 (contact Assoc. Regional Counsel Cynthis King (312-886-6831)). During the public comment period, the proposed consent decree may also be examined on the following Department of Justice Web site, http://www.usdoj.gov/enrd/open.html. A copy of the proposed consent decree may also be obtained by mail from the Consent Decree Library, P.O. Box 7611, US Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.25 (25 cents per page reproduction cost) payable to the US Treasury or, if by e-mail or fax, forward a check in that amount to the Consent Decree Library at the stated address.

William Brighton,
Assistant Chief, Environmental, Enforcement Section, Environment and Natural Resources, Division.

[FR Doc. 06-6804 Filed 8-9-06; 8:45 am]

BILLING CODE 4410-15-M